DEPARTMENT OF AGRICULTURE

National Agricultural Statistics Service

7 CFR Part 3601

Availability of Information

AGENCY: National Agricultural Statistics Service, USDA.

ACTION: Final rule.

SUMMARY: This rule amends regulations of the National Agricultural Statistics Service (NASS) regarding the availability of information to the public in accordance with the Freedom of Information Act (FOIA). It informs the public of the change in location and telephone number of the FOIA Coordinator for NASS, provides a TTY number for access for hearing impaired individuals, addresses multitrack processing of requests and the availability of “reading room” material by electronic telecommunication pursuant to the Electronic FOIA Amendments of 1996, Public Law 104-231, and provides current information on obtaining NASS published data and reports.

EFFECTIVE DATE: This rule will become effective on December 19, 2001.

FOR FURTHER INFORMATION CONTACT: Stasia A.M. Hutchison, FOIA Coordinator, Agricultural Research Service, USDA, 5601 Sunnyside Avenue, Mail Stop 5128, Beltsville, Maryland 20705-5128; Telephone 301-504-1655; TTY-VOICE (301) 504-1743; Facsimile (301) 504-1648; e-mail shutchison@ars.usda.gov.

SUPPLEMENTARY INFORMATION: The FOIA requires Federal agencies to publish in the Federal Register regulations describing how the public may obtain information from the agency (5 U.S.C. 552(a)(1)). Part 3601 of Title 7, Code of Federal Regulations, is issued in accordance with the regulations of the Secretary of Agriculture at 7 CFR part 1, subpart A, implementing FOIA.

Pursuant to the Electronic FOIA Amendments of 1996, Public Law 104-231, § 3601.2 is updated to address the availability of “reading room” material by electronic telecommunication means. Also § 3601.4 is revised to address multitrack processing of requests. Former § 3601.6 is updated to provide current information on obtaining NASS's published data and reports, including online access. As a result, former §§ 3601.4, 3601.5, and 3601.6 are renumbered and § 3601.7 added.

This rule also amends part 3601 to inform the public of the change in the location and telephone number of the FOIA Coordinator for NASS and to provide a TTY number for access for hearing impaired individuals.

This rule will become effective 30 days after this publication pursuant to 5 U.S.C. 553(d). Further, this rule has been reviewed to ensure accordance with Executive Orders 12988 and 12866. This rule will not cause a significant economic impact or other substantial effect on small entities. Therefore, the requirements of the Regulatory Flexibility Act, 5 U.S.C. 601, et seq., do not apply.

List of Subjects in 7 CFR Part 3601

Freedom of Information.

Accordingly, 7 CFR part 3601 is revised to read as follows:

PART 3601—PUBLIC INFORMATION

Sec.
3601.1 General statement.
3601.2 Public inspection, copying, and indexing.
3601.3 Requests for records.
3601.4 Multitrack processing.
3601.5 Denials.
3601.6 Appeals.
3601.7 Requests for published data and information.

Authority: 5 U.S.C. 301, 552; 7 CFR part 1, subpart A and appendix A thereto.

§ 3601.1 General statement.

This part is issued in accordance with the regulations of the Secretary of Agriculture in part 1, subpart A of this title and appendix A thereto, implementing the Freedom of Information Act (FOIA) (5 U.S.C. 552), and governs the availability of records of the National Agricultural Statistics Service (NASS) to the public.

§ 3601.2 Public inspection, copying, and indexing.

5 U.S.C. 552(a)(2) requires that certain materials be made available for public inspection and copying and that a current index of these materials be published quarterly or otherwise be made available. Members of the public may request access to such materials maintained by NASS at the following office: Information Staff, ARS, REE, USDA, Room 1-2248, Mail Stop 5128, 5601 Sunnyside Avenue, Beltsville, MD 20705-5128; Telephone (301) 504-1640 or (301) 504-1655; TTY-VOICE (301) 504-1743. Office hours are 8 a.m. to 4:30 p.m. Information maintained in our electronic reading room can be accessed at http://www.ars.usda.gov/is/foia/#Electronic.

§ 3601.3 Requests for records.

Requests for records of NASS under 5 U.S.C. 552(a)(3) shall be made in accordance with § 1.5 of this title and submitted to the FOIA Coordinator, Information Staff, ARS, REE, USDA, Mail Stop 5128, 5601 Sunnyside Avenue, Beltsville, MD 20705-5128; Telephone (301) 504-1640 or (301) 504-1655; TTY-VOICE (301) 504-1643; Facsimile (301) 504-1648; e-mail vherberger@ars.usda.gov or shutchison@ars.usda.gov. The FOIA Coordinator is delegated authority to make determinations regarding such requests in accordance with § 1.3(c) of this title.

§ 3601.4 Multitrack processing.

(a) When NASS has a significant number of requests, the nature of which precludes a determination within 20 working days, the requests may be processed in a multitrack processing system, based on the date of receipt, the amount of work and time involved in processing the request, and whether the request qualifies for expedited processing.

(b) NASS may establish as many processing tracks as appropriate; processing within each track shall be based on a first-in, first-out concept, and rank-ordered by the date of receipt of the request.

(c) A requester whose request does not qualify for the fastest track may be given an opportunity to limit the scope of the request in order to qualify for the fastest track. This multitrack processing system does not lessen agency responsibility to exercise due diligence in processing requests in the most expeditious manner possible.

(d) NASS shall process requests in each track on a “first-in, first-out” basis, unless there are unusual circumstances as set forth in § 1.16 of this title, or the requester is entitled to expedited processing as set forth in § 1.9 of this title.

§ 3601.5 Denials.

If the FOIA Coordinator determines that a requested record is exempt from mandatory disclosure and that discretionary release would be improper, the FOIA Coordinator shall give written notice of denial in accordance with § 1.7(a) of this title.

§ 3601.6 Appeals.

Any person whose request is denied shall have the right to appeal such denial. Appeals shall be made in accordance with § 1.13 of this title and should be addressed as follows: Administrator, NASS, U.S. Department of Agriculture, Washington, DC 20250.

§ 3601.7 Requests for published data and information.

(a) Published data and reports produced by NASS since 1995 are available via the NASS Web site at http://www.usda.gov/nass/ or an e-mail subscription may be established via the website under Publications. Searching on the website is available by topic, by title, or by date. The titles displayed in the search include NASS's published periodicals and annual reports. Full text of all the titles is available at no cost (PDF Files beginning 1999). Printed copies and reports published after 1996 can be purchased from the ERS-NASS sales desk at the National Technical Information Center at 1 (800) 999-6779 (8:30 a.m.-5 p.m. Eastern Time, M-F).

(b) Information on published data, printed subscription rates, and historic publications is available from the Secretary, Agricultural Statistics Board, NASS, U.S. Department of Agriculture, Washington, DC 20250. This information is also available from the NASS website under Publications, NASS Catalog, NASS Periodicals and Annual Reports. Published data, from each State Statistical Office, are available via the NASS website under State Information or by e-mail subscription. Published data subscription forms are available from the State Statistician at each State Statistical Office. Addresses are listed in appendix A to part 3600 of this chapter.

Done at Washington, DC, this 31st day of October 2001.
R. Ronald Bosecker,
Administrator, National Agricultural Statistics Service.

[FR Doc. 01-28838 Filed 11-16-01; 8:45 am]

BILLING CODE 3410-20-P